DEPARTMENT OF TRANSPORTATION

Research and Special Programs Administration

49 CFR Parts 192 and 195

[Docket No. RSPA-97-2426; Notice 4]

RIN 2137-AB48

Maps and Records of Pipeline Locations and Characteristics; Notification of State Agencies; Pipe Inventory

AGENCY: Research and Special Programs Administration (RSPA).

ACTION: Notice of removal of regulatory agenda item.

SUMMARY: This agenda item contemplated a rulemaking action to equalize as far as possible the requirements that gas and hazardous liquid pipeline operators keep maps and records to show the location and other characteristics of pipelines. Operators would have been required to keep an inventory of pipe and periodically report mileage and other data to federal and State agencies. This action was considered because of congressional and State concerns about the need for appropriate public officials to have pipeline information. Since this contemplated rulemaking was initiated in 1997, RSPA has developed the National Pipeline Mapping System (NPMS), a non-regulatory approach, to address these needs. Furthermore, pipeline security issues have been raised by recent events. In light of the development of the NPMS and the security issues, this item is removed from the regulatory agenda.

FOR FURTHER INFORMATION CONTACT: Richard Huriaux, by telephone at (202) 366-4565, by fax at (202) 366-4566, or by e-mail at richard.huriaux@rspa.dot.gov, regarding the subject matter of this notice. You may contact the Dockets Facility by phone at (202) 366-9329, for copies of this notice or other material in the docket. All materials in this docket may be accessed electronically at http://dms.dot.gov. General information about the RSPA Office of Pipeline Safety programs may be obtained by accessing OPS's Internet page at http://ops.dot.gov.

SUPPLEMENTARY INFORMATION: In Section 102 and 202 of the Pipeline Safety Reauthorization Act of 1988 (Pub. L. 100-561, October 31, 1988), Congress directed RSPA to establish standards to require pipeline operators to complete and maintain an inventory of gas and hazardous liquid pipelines, including information on the location and history of leaks.

This requirement was to equalize as far as possible the requirements that gas and hazardous liquid pipeline operators keep maps and records to show the location and other characteristics of pipelines. Operators would have been required to keep an inventory of pipe and periodically report mileage and other facts to Federal and State agencies. A rulemaking action was considered because of congressional and State concerns about the need for appropriate public officials to have pipeline information.

Since the publication of this agenda item in 1997, RSPA has developed a non-regulatory alternative approach to ensuring that information on the location and characteristics of gas and hazardous liquid pipelines is available to Federal and State agencies. RSPA has worked with other Federal and State agencies and the pipeline industry to create the NPMS. The NPMS shows the location and selected attributes of the major natural gas and hazardous liquid pipelines and liquefied natural gas facilities in the Untied States.

The NPMS is a full-featured geographic information system that allows RSPA, for the first time, to accurately view pipelines in relation to the communities and environments they cross. The pipeline data layers now being populated cover both interstate and intrastate natural gas transmission pipelines and hazardous liquid pipelines. It includes data depicting population, urbanized areas, political boundaries, roads, railroads, hydrography, consequence and hazard areas, and unusually sensitive areas. At present, the NPMS includes data on 85-90 percent of the hazardous liquid pipeline milage and on more than 50 percent of the gas transmission pipeline mileage.

In addition, pipeline security issues have been raised by recent events. In light of the development of the NPMS and the security issues, a rulemaking action is no longer necessary.

On the basis of the foregoing, RSPA hereby removes this action from the regulatory agenda.

Authority: 49 U.S.C. 60102 et seq.; 49 CFR 1.53.

Issued in Washington, D.C. on January 22, 2002.
James K. O'Steen,
Deputy Associate Administrator for Pipeline Safety.

[FR Doc. 02-1909 Filed 1-24-02; 8:45 am]

BILLING CODE 4910-60-P